DEPARTMENT OF ENERGY

Federal Energy Regulatory Commission

[Docket No. RP04-70-000]

Transcontinental Gas Pipe Line Corporation; Notice of Tariff Filing

November 28, 2003.

Take notice that on November 24, 2003, Transcontinental Gas Pipe Line Corporation (Transco) tendered for filing as part of its FERC Gas Tariff, Third Revised Volume No. 1, Third Revised Sheet No. 60A, Eleventh Revised Sheet No. 60B and Tenth Revised Sheet No. 60C proposed to be effective January 1, 2004.

Transco states that the purpose of the instant filing is to calculate the firm transportation service load factors on the actual volumes transported during the 12-month period October 2002 through September 2003 in accordance with GRI's 1993 settlement and to make the appropriate changes to its list of small customers and high and low load factor large customers included in its tariff.

Transco states that copies of the filing are being mailed to affected customers and interested State Commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linda Mitry,
Acting Secretary.

[FR Doc. E3-00451 Filed 12-3-03; 8:45 am]

BILLING CODE 6717-01-P